DEPARTMENT OF ENERGY

Federal Energy Regulatory Commission

[Project No. 14873-000]

Nushagak Cooperative, Inc.; Notice of Preliminary Permit Application Accepted for Filing and Soliciting Comments, Motions To Intervene, and Competing Applications

On March 22, 2018, Nushagak Cooperative, Inc. filed an application for a preliminary permit, pursuant to section 4(f) of the Federal Power Act (FPA), proposing to study the feasibility of the Nuyakuk River Hydroelectric Project (Nuyakuk River Project or project) to be located on the Nuyakuk River, near Dillingham, Alaska. The sole purpose of a preliminary permit, if issued, is to grant the permit holder priority to file a license application during the permit term. A preliminary permit does not authorize the permit holder to perform any land-disturbing activities or otherwise enter upon lands or waters owned by others without the owners' express permission. The project would utilize approximately 218 acres of land owned by the U.S. Bureau of Land Management.

The proposed project would consist of the following new facilities: (1) A 100-foot-long, 20-foot-high intake structure; (2) a 1,200-foot-long, 50-foot-wide by 15-feet-tall concrete-lined power conduit; (3) a 100-foot-wide by 100-foot-long powerhouse forebay with a surface area of 0.23 acres; (4) a 100-foot-wide by 60-foot-long concrete powerhouse containing two 5 megawatt (MW) bulb-type turbines for a total installed capacity of 10 MW; (5) a 100-foot-wide, 500-foot-long tailrace discharging to the Nuyakuk River; (6) a project substation; (7) a 135-mile-long, 25 kilovolt transmission line extending from the substation to the communities of Aleknagik, Koliganek, Stuyahok, Ekwok, and Levelock; and (8) appurtenant facilities. The estimated annual generation of the Nuyakuk River Project would be 72.8 gigawatt-hours.

Applicant Contact: Mr. Bobby Armstrong, Nushagak Cooperative, Inc., P.O. Box 530, Dillingham, AK 99576; phone: (907) 842-5251.

FERC Contact: Julia Kolberg, phone: (202) 502-8261 or email: Julia.kolberg@ferc.gov.

Deadline for filing comments, motions to intervene, competing applications (without notices of intent), or notices of intent to file competing applications: 60 Days from the issuance of this notice. Competing applications and notices of intent must meet the requirements of 18 CFR 4.36.

The Commission strongly encourages electronic filing. Please file comments, motions to intervene, notices of intent, and competing applications using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE, Washington, DC 20426. The first page of any filing should include docket number P-14873-000.

More information about this project, including a copy of the application, can be viewed or printed on the “eLibrary” link of Commission's website at http://www.ferc.gov/docs-filing/elibrary.asp. Enter the docket number (P-14873) in the docket number field to access the document. For assistance, contact FERC Online Support.

Dated: April 6, 2018.
Kimberly D. Bose,
Secretary.

[FR Doc. 2018-07558 Filed 4-11-18; 8:45 am]

BILLING CODE 6717-01-P